DEPARTMENT OF TRANSPORTATION

Federal Aviation Administration

[Summary Notice No. PE-2000-29]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 23, 2000.

ADDRESSES: Send comments on any petition in triplicate to: Federal Aviation Administration, Office of the Chief Counsel, Attn: Rule Docket (AGC-200), Petition Docket No. _____, 800 Independence Avenue, SW., Washington, DC 20591.

The petition, any comments received, and a copy of any final disposition are filed in the assigned regulatory docket and are available for examination in the Rules Docket (AGC-200), Room, 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on July 28, 2000.
Donald P. Byrne,
Assistant Chief Counsel for Regulations.

Dispositions of Petitions

Docket No.: 29911.

Petitioner: Adeletom Aviation, LLC.

Section of the FAR Affected: 14 CFR 135.143(c)(2).

Description of Relief Sought/Disposition: To permit AAL to operate certain aircraft under part 135 without a TSO-C112 (Mode S) transponder installed in the aircraft.

Grant, 05/12/00, Exemption No. 7201

Docket No.: 29956.

Petitioner: Better Living Aviation.

Section of the FAR Affected: 14 CFR 135.143(c)(2).

Description of Relief Sought/Disposition: To permit BLA to operate certain aircraft under part 135 without a TSO-C112 (Mode S) transponder installed in the aircraft.

Grant, 05/12/00, Exemption No. 7206

Docket No.: 27170.

Petitioner: Minuteman Aviation, Inc.

Section of the FAR Affected: 14 CFR 135.143(c)(2).

Description of Relief Sought/Disposition: To permit MAI to operate certain aircraft under part 135 without a TSO-C112 (Mode S) transponder installed in the aircraft.

Grant, 05/12/00, Exemption No. 7205

Docket No.: 30001.

Petitioner: Avcenter, Inc.

Section of the FAR Affected: 14 CFR 135.143(c)(2).

Description of Relief Sought/Disposition: To permit Avcenter to operate certain aircraft under part 135 without a TSO-C112 (Mode S) transponder installed in the aircraft.

Grant, 05/12/00, Exemption No. 7204

Docket No.: 29982.

Petitioner: G & L Service.

Section of the FAR Affected: 14 CFR 135.143(c)(2).

Description of Relief Sought/Disposition: To permit G&L to operate certain aircraft under part 135 without a TSO-C112 (Mode S) transponder installed in the aircraft.

Grant, 05/12/00, Exemption No. 7203

Docket No.: 29936.

Petitioner: Mentone Flying Club, Inc.

Section of the FAR Affected: 14 CFR 135.251, 135.255, 135.353, appendixes I and J to part 121.

Description of Relief Sought/Disposition: To permit MFC to conduct local sightseeing flights at Fulton County Airport, Indiana for the one-day Round Barn Festival in June 2000, for compensation or hire, without complying with certain anti-drug and alcohol misuse prevention requirements of part 135.

Grant, 05/12/00, Exemption No. 7202.

Docket No.: 29963.

Petitioner: Decatur Aero Club.

Section of the FAR Affected: 14 CFR 135.251, 135.255, 135.353, and appendixes I and J to part 121.

Description of Relief Sought/ Disposition: To permit DAC to conduct local sightseeing flights in the vicinity of Decatur, Illinois for their one-day pancake breakfast in June 2000, for compensation or hire, without complying with certain anti-drug and alcohol misuse prevention requirements of part 135.

Grant, 05/15/00, Exemption No. 7211

Docket No: 30015.

Petitioner: Gulf and Ohio Airways.

Section of the FAR Affected: 14 CFR 135.143(c)(2).

Description of Relief Sought/Dispositions: To permit GOA to operate certain aircraft under part 135 without a TSO-C112 (Mode S) transponder installed in the aircraft.

Grant, 05/15/00, Exemption No. 7208

Docket No.: 29968.

Petitioner: Vintage Aircraft Group, Inc.

Section of the FAR Affected: 14 CFR 135.251, 135.255, 135.353, and appendixes I and J to part 121.

Description of Relief Sought/Disposition: To permit VAC to conduct local sightseeing flights at Pine Hill airport, New York for its one-day events in June 2000, and September 2000, for compensation or hire, without complying with certain anti-drug and alcohol misuse prevention requirements of part 135.

Grant, 05/15/00, Exemption No. 7207

Docket No.: 27609.

Petitioner: M. Shannon & Associates.

Section of the FAR Affected: 14 CFR 91.9(a) and 91.531(A)(1) and (2).

Description of Relief Sought/Disposition: To permit Shannon and certain operators of Cessna Model 500, 550, and S550 Citation airplanes to operate those airplanes without a pilot designated as second in command.

Grant, 005/12/00, Exemption No. 6480C

[FR Doc. 00-19524 Filed 8-1-00; 8:45 am]

BILLING CODE 4910-13-M